DEPARTMENT OF TRANSPORTATION

Federal Aviation Administration

14 CFR Part 39

[Docket No. 2001-NM-65-AD]

RIN 2120-AA64

Airworthiness Directives; McDonnell Douglas Model MD-11 Series Airplanes

AGENCY: Federal Aviation Administration, DOT.

ACTION: Notice of proposed rulemaking (NPRM).

SUMMARY: This document proposes the supersedure of an existing airworthiness directive (AD), applicable to certain McDonnell Douglas Model MD-11 series airplanes, that currently requires replacing the ground support bracket(s); and rerouting the ground cables of the galley external power and main external power, or ground cables of the main external power; as applicable. This action would require a general visual inspection of the ground cables of the main external power and galley external power for excessive length, as applicable; and corrective actions, if necessary. This proposal is prompted by the FAA's determination that currently required actions may not adequately address the identified unsafe condition. The actions specified by the proposed AD are intended to prevent arcing and heat damage to the attachment points of the main external and galley power receptacle ground wire, insulation blankets outboard and aft of the receptacle area, and adjacent power cables, which could result in smoke and fire in the forward cargo compartment.

DATES: Comments must be received by November 19, 2001.

ADDRESSES: Submit comments in triplicate to the Federal Aviation Administration (FAA), Transport Airplane Directorate, ANM-114, Attention: Rules Docket No. 2001-NM-65-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-nprmcomment@faa.gov. Comments sent via fax or the Internet must contain “Docket No. 2001-NM-65-AD” in the subject line and need not be submitted in triplicate. Comments sent via the Internet as attached electronic files must be formatted in Microsoft Word 97 for Windows or ASCII text.

The service information referenced in the proposed rule may be obtained from Boeing Commercial Aircraft Group, Long Beach Division, 3855 Lakewood Boulevard, Long Beach, California 90846, Attention: Data and Service Management, Dept. C1-L5A (D800-0024). This information may be examined at the FAA, Transport Airplane Directorate, 1601 Lind Avenue, SW., Renton, Washington.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-65-AD.” The postcard will be date stamped and returned to the commenter.

Availability of NPRMs

Any person may obtain a copy of this NPRM by submitting a request to the FAA, Transport Airplane Directorate, ANM-114, Attention: Rules Docket No. 2001-NM-65-AD, 1601 Lind Avenue, SW., Renton, Washington 98055-4056.

Discussion

On November 22, 2000, the FAA issued AD 2000-24-13, amendment 39-12020 (65 FR 75616, December 4, 2000), applicable to certain McDonnell Douglas Model MD-11 airplanes, to require replacing the ground support bracket(s); and rerouting the ground cables of the galley external power and main external power, or ground cables of the main external power; as applicable. That action was prompted by the results of the analysis that revealed the existing design of the subject grounding system does not adequately prevent arcing and heat damage to the attachment points of the main external and galley power receptacle ground wire, insulation blankets outboard and aft of the receptacle area, and adjacent power cables. The requirements of that AD are intended to prevent arcing and heat damage to the attachment points of the main external and galley power receptacle ground wire, insulation blankets outboard and aft of the receptacle area, and adjacent power cables, which could result in smoke and fire in the forward cargo compartment.

Actions Since Issuance of Previous Rule

Since the issuance of AD 2000-24-13, the FAA in conjunction with Boeing has determined that actions required by that AD may not adequately preclude arcing and heat damage to the attachment points of the main external and galley power receptacle ground wire, insulation blankets outboard and aft of the receptacle area, and adjacent power cables.

Explanation of Relevant Service Information

The FAA has reviewed and approved McDonnell Douglas Alert Service Bulletin MD11-24A138, Revision 01, dated June 5, 2001. The replacement and rerouting procedures are identical to those in the original version of Alert Service Bulletin MD11-24A138, dated April 3, 2000, which was referenced in AD 2000-24-13 as the appropriate source of service information. Revision 01 of the service bulletin provides new instructions for performing a general visual inspection of the ground cables of the main external power and galley external power (as applicable) for excessive length; and corrective actions, if necessary. The corrective actions include cutting the cable assembly to correct length and installing a terminal on the cut end of the cable. Revision 01 of the service bulletin also changes fuselage number 0456 from Group 1 airplanes to Group 2, and adds Groups 3 and 4 airplanes (airplanes modified by the original version of the service bulletin). Accomplishment of the actions specified in the service bulletin is intended to adequately address the identified unsafe condition.

Explanation of Requirements of Proposed Rule

Since an unsafe condition has been identified that is likely to exist or develop on other products of this same type design, the proposed AD would supersede AD 2000-24-13 to continue to require replacing the ground support bracket(s); and rerouting the ground cables of the galley external power and main external power, or ground cables of the main external power; as applicable. The proposed AD also would require accomplishment of the new actions specified in Revision 01 of the service bulletin described previously.

Explanation of Change to Applicability from AD 2000-24-13

Because the effectivity of McDonnell Douglas Alert Service Bulletin MD11-4A138, Revision 01, dated June 5, 2001, includes a revised listing of airplane groups (no additional airplanes), the FAA has referenced that revision as the appropriate source of service information for determining the affected airplanes of this proposed AD. We also revised the applicability of paragraph (a)(1) of AD 2000-24-13 (requirements are restated in this proposed AD) to correctly exclude fuselage number 0456 and corrected paragraph (a)(2) of that AD to include that fuselage number. We have determined that the proposed corrections to paragraphs (a)(1) and (a)(2) of AD 2000-24-13 will neither increase the economic burden on any operator nor increase the scope of that AD.

Cost Impact

There are approximately 149 Model MD-11 series airplanes of the affected design in the worldwide fleet. The FAA estimates that 59 airplanes of U.S. registry would be affected by this proposed AD.

The actions that are currently required by AD 2000-24-13, and retained in this proposed AD, take approximately 1 (for Group 1 airplanes) or 2 (for Group 2 airplanes) work hours per airplane to accomplish, at an average labor rate of $60 per work hour. Required parts cost approximately $337 (for Group 1 airplanes) or $647 (for Group 2 airplanes) per airplane. Based on these figures, the cost impact of the currently required actions on U.S. operators is estimated to be $397 (for Group 1 airplanes), or $767 (for Group 2 airplanes) per airplane.

The new actions that are proposed in this AD action would take approximately 1 work hour per airplane to accomplish, at an average labor rate of $60 per work hour. Based on these figures, the cost impact of the proposed requirements of this AD on U.S. operators is estimated to be $3,540, or $60 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12020 (65 FR 75616, December 4, 2000), and by adding a new airworthiness directive (AD), to read as follows:

McDonnell Douglas: Docket 2001-NM-65-AD. Supersedes AD 2000-24-13, Amendment 39-12020.

Applicability: Model MD-11 series airplanes, as listed in McDonnell Douglas Alert Service Bulletin MD11-24A138, Revision 01, dated June 5, 2001; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance: Required as indicated, unless accomplished previously.

To prevent arcing and heat damage to the attachment points of the main external and galley power receptacle ground wire, insulation blankets outboard and aft of the receptacle area, and adjacent power cables, which could result in smoke and fire in the forward cargo compartment, accomplish the following:

Replacement and Reroute

(a) Within 12 months after January 8, 2001 (the effective date of AD 2000-24-13, amendment 39-12020), accomplish the actions specified in paragraph (a)(1) or (a)(2) of this AD, as applicable, in accordance with McDonnell Douglas Alert Service Bulletin MD11-24A138, dated April 3, 2000, or Revision 01, dated June 5, 2001. As of the effective date of this AD, only Revision 01 of the service bulletin shall be used.

(1) For Group 1 airplanes listed in the original version of the service bulletin, excluding fuselage number 0456: Replace the ground support brackets with new brackets and reroute the ground cables of the galley external power and main external power.

(2) For Group 2 airplanes listed in the original version of the service bulletin and fuselage number 0456: Replace the ground support bracket and reroute the ground cables of the main external power.

Inspection and Corrective Actions, If Necessary

(b) Within 12 months after the effective date of this AD, accomplish the actions specified in paragraph (b)(1) or (b)(2) of this AD, as applicable, in accordance with McDonnell Douglas Alert Service Bulletin MD11-24A138, Revision 01, dated June 5, 2001.

(1) For Group 3 airplanes listed in Revision 01 of the service bulletin: Do a general visual inspection of the ground cables of the main external power and galley external power for excessive length. If any cable length is excessive, before further flight, do applicable corrective actions (e.g., cut cable assembly to correct length and install a terminal on the cut end of the cable) per Condition 2 of Figure 3 of the service bulletin.

(2) For Group 4 airplanes listed in Revision 01 of the service bulletin: Do a general visual inspection of the ground cables of the main external power for excessive length. If any cable length is excessive, before further flight, do applicable corrective actions (e.g., cut cable assembly to correct length and install a terminal on the cut end of the cable) per Condition 2 of Figure 4 of the service bulletin.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Alternative Methods of Compliance

(c) An alternative method of compliance or adjustment of the compliance time that provides an acceptable level of safety may be used if approved by the Manager, Los Angeles Aircraft Certification Office (ACO), FAA. Operators shall submit their requests through an appropriate FAA Principal Maintenance Inspector, who may add comments and then send it to the Manager, Los Angeles ACO.

Note 3: Information concerning the existence of approved alternative methods of compliance with this AD, if any, may be obtained from the Los Angeles ACO.

Special Flight Permits

(d) Special flight permits may be issued in accordance with sections 21.197 and 21.199 of the Federal Aviation Regulations (14 CFR 21.197 and 21.199) to operate the airplane to a location where the requirements of this AD can be accomplished.

Issued in Renton, Washington, on October 1, 2001.
Charles Huber,
Acting Manager, Transport Airplane Directorate, Aircraft Certification Service.

[FR Doc. 01-25060 Filed 10-4-01; 8:45 am]

BILLING CODE 4910-13-P